Title 3—

The President

Proclamation 8085 of November 16, 2006

Thanksgiving Day, 2006

By The President Of The United States of America

A Proclamation

As Americans gather with family and friends to celebrate Thanksgiving Day, we give thanks for the many ways that our Nation and our people have been blessed.

The Thanksgiving tradition dates back to the earliest days of our society, celebrated in decisive moments in our history and in quiet times around family tables. Nearly four centuries have passed since early settlers gave thanks for their safe arrival and pilgrims enjoyed a harvest feast to thank God for allowing them to survive a harsh winter in the New World. General George Washington observed Thanksgiving during the Revolutionary War, and in his first proclamation after becoming President, he declared November 26, 1789, a national day of “thanksgiving and prayer.” During the Civil War, President Abraham Lincoln revived the tradition of proclaiming a day of thanksgiving, reminding a divided Nation of its founding ideals.

At this time of great promise for America, we are grateful for the freedoms guaranteed by our Constitution and defended by our Armed Forces throughout the generations. Today, many of these courageous men and women are securing our peace in places far from home, and we pay tribute to them and to their families for their service, sacrifice, and strength. We also honor the families of the fallen and lift them up in our prayers.

Our citizens are privileged to live in the world's freest country, where the hope of the American dream is within the reach of every person. Americans share a desire to answer the universal call to serve something greater than ourselves, and we see this spirit every day in the millions of volunteers throughout our country who bring hope and healing to those in need. On this Thanksgiving Day, and throughout the year, let us show our gratitude for the blessings of freedom, family, and faith, and may God continue to bless America.

NOW, THEREFORE, I, GEORGE W. BUSH, President of the United States of America, by virtue of the authority vested in me by the Constitution and laws of the United States, do hereby proclaim Thursday, November 23, 2006, as a National Day of Thanksgiving. I encourage all Americans to gather together in their homes and places of worship with family, friends, and loved ones to reinforce the ties that bind us and give thanks for the freedoms and many blessings we enjoy.

IN WITNESS WHEREOF, I have hereunto set my hand this sixteenth day of November, in the year of our Lord two thousand six, and of the Independence of the United States of America the two hundred and thirty-first.

[FR Doc. 06-9357

Filed 11-20-06; 8:45 am]

Billing code 3195-01-P